DEPARTMENT OF TRANSPORTATION

Bureau of Transportation Statistics

[Docket Number DOT-OST-2017-0043]

Agency Information Collection Activity: Notice of Request for Approval To Continue To Collect Information: Barrier Failure Reporting in Oil and Gas Operations on the Outer Continental Shelf

AGENCY: Bureau of Transportation Statistics (BTS), Office of the Assistant Secretary for Research and Technology (OST-R), U.S. Department of Transportation.

ACTION: Notice and request for comments.

SUMMARY: In accordance with the requirements of the Paperwork Reduction Act of 1995, this notice announces the intention of BTS to request the Office of Management and Budget (OMB) to approve continuation of the following information collection: Barrier Failure Reporting in Oil and Gas Operations on the Outer Continental Shelf (OCS). BTS has entered into a memorandum of understanding (MOU) with BSEE to expand the scope of SafeOCS to include an industry-wide repository of equipment failure data, analyze and aggregate information provided under this program, and publish reports that will provide BSEE, the industry, and all OCS stakeholders with essential information about failure types and modes of critical safety barriers for offshore operations related to well control and safety and pollution prevention.

DATES: Written comments should be submitted by December 17, 2021.

ADDRESSES: To ensure that your comments are not entered more than once into the docket, submit comments by only one of the following methods:

• Federal eRulemaking Portal: Go to http://www.regulations.gov and follow the instructions for sending your comments electronically. Docket Number: DOT-OST-2017-0043.

• Mail: Docket Services, U.S. Department of Transportation, 1200 New Jersey Avenue SE, West Building, Ground Floor, Room W12-140, Washington, DC 20590-0001.

• Hand Delivery: Deliver to mail address above between 9 a.m. and 5 p.m. EST, Monday through Friday, except Federal holidays.

• Fax: (202) 493-2251.

Identify all transmission with “Docket Number DOT-OST-2017-0043” at the beginning of each page of the document.

Instructions: All comments must include the agency name and docket number for this notice. Paper comments should be submitted in duplicate. The Docket Management Facility is open for examination and copying, at the above address from 9 a.m. to 5 p.m. EST, Monday through Friday, except Federal holidays. If you wish to receive confirmation of receipt of your written comments, please include a self-addressed, stamped postcard with the following statement: “Comments on Docket Number DOT-OST-2017-0043.” The Docket Clerk will date stamp the postcard prior to returning it to you via the U.S. mail. Please note that all comments received, including any personal information, will be posted and will be publicly viewable, without change, at www.regulations.gov. You may review DOT's complete Privacy Act Statement in the Federal Register published on April 11, 2000 (Volume 65, Number 70; pages 19477-78) or you may review the Privacy Act Statement at www.regulations.gov.

FOR FURTHER INFORMATION CONTACT: Demetra V. Collia, Bureau of Transportation Statistics, Office of the Assistant Secretary for Research and Technology, U.S. Department of Transportation, Office of Statistical and Economic Analysis, RTS-31, E36-302, 1200 New Jersey Avenue SE, Washington, DC 20590-0001; Phone No. (202) 366-1610; Fax No. (202) 366-3383; email: demetra.collia@dot.gov. Office hours are from 8:30 a.m. to 5 p.m., EST, Monday through Friday, except Federal holidays.

Data Confidentiality Provisions: The confidentiality of barrier failure information submitted to BTS is protected under the BTS confidentiality statute (49 U.S.C. 6307) and the Confidential Information Protection and Statistical Efficiency Act (CIPSEA), Public Law 115-435, Title III, Foundations for Evidence-Based Policymaking Act of 2018.

In accordance with these confidentiality statutes, only statistical (aggregated) and non-identifying data will be made publicly available by BTS through its reports. BTS will not release to BSEE or any other public or private entity any information that might reveal the identity of individuals or organizations mentioned in failure notices or reports without explicit consent of the respondent and any other affected entities.

SUPPLEMENTARY INFORMATION: The data collection effort that is the subject of this notice addresses the collection of failure data as referenced in BSEE regulations at 30 CFR 250.730 (81 FR 25887, April 29, 2016) and 30 CFR 250.803 (81 FR 61834, September 7, 2016). BTS received permission to start the data collection under an emergency OMB control number on September 29, 2016. Subsequently, BTS received an OMB control number that expires November 30, 2021. Through this notice, BTS is requesting permission to continue this previously approved data collection. This information collection is necessary to aid BSEE, the oil and gas industry, and other stakeholders in identifying barrier failure trends and causes of critical safety barrier failure events.

I. The Data Collection

The Paperwork Reduction Act of 1995 (44 U.S.C. chapter 35; as amended) and 5 CFR part 1320 require each Federal agency to obtain OMB approval to initiate an information collection activity. BTS is seeking OMB approval to continue the following BTS information collection activity:

Title: Barrier Failure Reporting in Oil and Gas Operations on the Outer Continental Shelf.

OMB Control Number: 2139-0046.

Type of Review: Approval of data collection. This information collection is limited to the establishment of BTS as an authorized repository for the previously approved BSEE information collections (OMB Control Number 1014-0028, expiration 01/31/2023, and OMB Control Number 1014-0003, expiration 01/31/2022) in order to ensure the confidentiality of submissions under CIPSEA.

Respondents: BTS has entered into a MOU with BSEE to facilitate the collection of information from respondents identified in the BSEE notices for OMB Control Number 1014-0028 and OMB Control Number 1014-0003. Responsibility for establishing the actual scope and burden for this collection resides with BSEE. This BTS information collection request does not create any additional burden for respondents. For the purposes of this collection BTS has identified BSEE as the sole respondent.

Number of Potential Responses: For the purposes of this collection BTS has identified BSEE as the sole respondent reporting to BTS at the annual frequency of one.

Estimated Time per Response: 60 minutes.

Frequency: Once.

Total Annual Burden: 1 hour.

Abstract: The Confidential Information Protection and Statistical Efficiency Act (CIPSEA) of 2018 (Pub. L: 115-435 Foundations for Evidence-Based Policymaking Act of 2018, Title III) can provide strong confidentiality protection for information acquired for statistical purposes under a pledge of confidentiality. CIPSEA Guidance from the Office of Management and Budget advises that a non-statistical agency or unit (BSEE) that wishes to acquire information with CIPSEA protection may consider entering into an agreement with a Federal statistical agency or unit (BTS). BTS and BSEE have determined that it is in the public interest to collect and process the barrier-related failure reports required by 30 CFR 250.730 and the Safety and Pollution Prevention Equipment (SPPE), failure reports required by 30 CFR 250.803, or any other data deemed necessary to administer BSEE's safety program pertaining to barrier failures under a pledge of confidentiality for statistical purposes only. BTS has agreed through an MOU with BSEE to undertake the information collection identified in the BSEE notice for OMB Control Number 1014-0028 and the BSEE notice for OMB Control Number 1014-0003 in order to ensure the confidentiality of submissions under CIPSEA. Since this information collection is limited to the establishment of BTS as an authorized repository for the previously approved information collection (OMB Control Number 1014-0028, expiration for Well Control Equipment (WCE) is 01/31/2023 and OMB Control Number 1014-0003, expiration for Safety and Pollution Prevention Equipment (SPPE) is 01/31/2022), this information collections request does not create any additional burden for respondents.

II. Background

In July 2016, new BSEE regulations became effective which require, in part, the reporting of barrier-related failure event and analysis information (see 81 FR 25887) and reporting of failure event and analysis information of safety and pollution prevention equipment (see 81 FR 61834). BSEE requested and BTS agreed to expand the scope of SafeOCS to include reports of equipment failure mandated by BSEE regulations (see 81 FR 25887). Both BTS and BSEE agree that reports on equipment failures are considered a type of precursor safety information and can be included in SafeOCS to provide a means of identifying industry-wide data trends on barrier failures or potential for barrier failures. This data collection will provide parties in the oil and gas industry a trusted means to report sensitive proprietary and safety information related to equipment failures and to foster trust in the confidential collection, handling, and storage of the raw data. BTS will use the data collected to establish a comprehensive source of barrier-related failure data for statistical purposes. With input from subject matter experts, BTS will process and analyze information on equipment failures, and publish results of such analyses in public reports. Such reports will provide BSEE, the industry, and all OCS stakeholders with essential information about failure types and modes of critical safety barriers for offshore operations related to well control and production safety systems.

BTS will continue to collect failure notices, failure analysis reports, and design change/modified procedures reports as described in 30 CFR 250.730 and 30 CFR 250.803 submitted by industry operators, their contractors, original equipment manufacturers, and others employed in the oil and gas industry; develop an analytical database using the reported data and other pertinent information; conduct statistical analyses and develop public reports; and protect the confidentiality of notices and reports in accordance with BTS' own statute and CIPSEA. Accordingly, only statistical and non-sensitive information will be made available through BTS' publications and reports. Those publications and reports will potentially provide the industry, BSEE, other OCS stakeholders, and the public with valuable information regarding precursors to safety risks and contribute to research and development of intervention programs aimed at preventing accidents and fatalities in the OCS.

Respondents who report equipment failures will be asked to fill out a form and submit pertinent supplemental information as described in 30 CFR 250.730, 30 CFR 250.803 and cited industry standards. Respondents will be asked to submit the report electronically to BTS, and provide information such as: (1) Name and contact information; (2) time and location of the failure event; (3) a short description of the failure event and operating conditions that existed at the time of the event; (4) contributing factors to the event; (5) results of an investigation or safety analysis report; (6) any design or procedural changes as a result of the reported equipment failure; and (7) any other information that might be useful in determining ways to prevents such failures from occurring.

III. Request for Public Comment

BTS requests comments on any aspects of this information collection request, including: (1) Ways to enhance the quality, usefulness, and clarity of the collected information; and (2) ways to minimize the collection burden without reducing the quality of the information collected, including additional use of automated collection techniques or other forms of information technology.

Demetra V. Collia,
Director, Office of Safety Data and Analysis, Bureau of Transportation Statistics, Office of the Assistant Secretary for Research and Technology, U.S. Department of Transportation.

[FR Doc. 2021-22279 Filed 10-15-21; 8:45 am]

BILLING CODE 4910-9X-P